DEPARTMENT OF HEALTH AND HUMAN SERVICES

Centers for Disease Control and Prevention

Disease, Disability, and Injury Prevention and Control Special Emphasis Panels (SEP): Member Conflict: Safety and Occupational Health, Program Announcements PA-04-038, PA-04-021, PA-04-030, and PAR-04-105

In accordance with Section 10(a)(2) of the Federal Advisory Committee Act (Pub. L. 92-463), the Centers for Disease Control and Prevention (CDC) announces the following meeting:

Name: Disease, Disability, and Injury Prevention and Control Special Emphasis Panel (SEP): Member Conflict: Safety and Occupational Health, Program Announcements PA-04-038, PA-04-021, PA-04-030, and PAR-04-105.

Time and Date: 2 p.m.-5 p.m., April 20, 2006 (Closed).

Place: National Institute for Occupational Safety and Health, CDC, 24 Executive Park Drive NE, MS E-74, Room 1429, Atlanta, GA 30329; Telephone Number 404.498.2582.

Status: The meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to: Member Conflict: Safety and Occupational Health, Program Announcements PA-04-038, PA-04-021, PA-04-030, and PAR-04-105.

For Further Information Contact: Charles N. Rafferty, PhD, Designated Federal Official, National Institute for Occupational Safety and Health, CDC, 1600 Clifton Road, NE., Mailstop E-74, Atlanta, GA 30333; Telephone Number 404.498.2582. The Director, Management Analysis and Services Office, has been delegated the authority to sign Federal Register notices pertaining to announcements of meetings and other committee management activities, for both CDC and the Agency for Toxic Substances and Disease Registry.

Dated: March 27, 2006.
Alvin Hall,
Director, Management Analysis and Services Office, Centers for Disease Control and Prevention.

[FR Doc. E6-4708 Filed 3-30-06; 8:45 am]

BILLING CODE 4163-18-P